DEPARTMENT OF EDUCATION

[Docket No.: ED-2015-ICCD-0067]

Agency Information Collection Activities; Submission to the Office of Management and Budget for Review and Approval; Comment Request; Assessing the Role of Noncognitive and School Environmental Factors in Students' Transitions to High School in New Mexico

AGENCY: Department of Education (ED), Institute of Education Sciences (IES).

ACTION: Notice.

SUMMARY: In accordance with the Paperwork Reduction Act of 1995 (44 U.S.C. chapter 3501 et seq.), ED is proposing a new information collection.

DATES: Interested persons are invited to submit comments on or before September 8, 2015.

ADDRESSES: To access and review all the documents related to the information collection listed in this notice, please use http://wwww.regulations.gov by searching the Docket ID number ED-2025-ICCD-0067 Comments submitted in response to this notice should be submitted electronically through the Federal eRulemaking Portal at http://www.regulations.gov by selecting the Docket ID number or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 2E105, Washington, DC 20202-4537.

FOR FURTHER INFORMATION CONTACT: For specific questions related to collection activities, please contact Christopher Boccanfuso, 202-219-1674.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Assessing the Role of Noncognitive and School Environmental Factors in Students' Transitions to High School in New Mexico.

OMB Control Number: 1850—NEW.

Type of Review: A new information collection.

Respondents/Affected Public: State, Local and Tribal Governments.

Total Estimated Number of Annual Responses: 2,591.

Total Estimated Number of Annual Burden Hours: 773.

Abstract: The study will examine relationships between non-cognitive factors (e.g., growth mindset, learning strategies, and self-efficacy) and school environment and contextual factors (e.g., perceptions of school safety, supportive teachers and counselors, usefulness of academic work) and three measures of successful 9th grade transitions—overall freshman GPA, number of 9th grade course failures, and freshman year attendance for three districts in New Mexico. It will also examine whether non-cognitive and school environment factors contribute to the prediction of successful 9th grade transitions after academic factors have been taken into account. The study will use data that will be collected via a survey that was created with assistance from members of the New Mexico Achievement Gap Alliance. The survey data will be used in combination with extant student-level academic and demographic data that will be obtained from the New Mexico Public Education Department. This study will also include comparisons between Hispanic, Native American and white students.

Dated: August 4, 2015.
Stephanie Valentine,
Acting Director, Information Collection Clearance Division, Office of the Chief Privacy Officer, Office of Management.

[FR Doc. 2015-19468 Filed 8-6-15; 8:45 am]

BILLING CODE 4000-01-P